FEDERAL MARITIME COMMISSION

Sunshine Act Meeting

TIME AND DATE: February 22, 2012—10 a.m.

PLACE: 800 North Capitol Street, NW., First Floor Hearing Room, Washington, DC

STATUS: A part of the meeting will be in Open Session and the remainder of the meeting will be in Closed Session.

MATTERS TO BE CONSIDERED:

Open Session

1. Docket No. 11-05: Rules of Practice and Procedure—Staff Recommendation and Draft Proposed Rule Regarding 46 CFR 502 Subparts E and L.

2. Docket No. 11-16: Update on Concordia Disaster and Staff Recommendation on Small Business Impacts of Financial Responsibility Requirements for Nonperformance of Transportation.

Closed Session

1. Staff Briefing on Economic and Trade Conditions.

2. Discussion of Ocean Transportation Intermediary Licensing Requirement.

CONTACT PERSON FOR MORE INFORMATION: Karen V. Gregory, Secretary, (202) 523-5725.

Karen V. Gregory,
Secretary.

[FR Doc. 2012-3993 Filed 2-15-12; 4:15 pm]

BILLING CODE 6730-01-P